DEPARTMENT OF ENERGY

Federal Energy Regulatory Commission

[Docket No. RP00-550-001]

Stingray Pipeline Company, L.L.C.; Notice of Compliance Filing

October 18, 2000.

Take notice that on October 13, 2000, Stingray Pipeline Company, L.L.C. (Stingray), tendered for filing FERC Gas Tariff, Third Revised Volume No. 1, Substitute Fourth Revised Sheet No. 157. Stingray proposes that this sheet be made effective on October 1, 2000.

Stingray states that this filing is made in compliance with the Commission's October 5 Letter Order issued in Docket No. RP00-550-000.

Any person desiring to be heard or to protest said filing should file a motion to intervene or a protest with the Federal Energy Regulatory Commission, 888 First Street, NE., Washington, DC 20426, in accordance with Sections 385.214 or 385.211 of the Commissions' Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27265 Filed 10-23-00; 8:45 am]

BILLING CODE 6717-01-M